DEPARTMENT OF TRANSPORTATION

Federal Aviation Administration

14 CFR Part 39

[Docket No. 2000-SW-50-AD]

RIN 2120-AA64

Airworthiness Directives; Kaman Aerospace Corporation Model K-1200 Helicopters

AGENCY: Federal Aviation Administration, DOT.

ACTION: Notice of proposed rulemaking (NPRM).

SUMMARY: This document proposes revising an existing airworthiness directive (AD) for Kaman Aerospace Corporation (Kaman) Model K-1200 helicopters. That AD currently requires reducing the life limit of the rotor shaft and teeter pin assembly and establishing a life limit for the flap clevis. This action would retain those requirements but would remove a flap clevis part number from the applicability. This proposal is prompted by the determination after an analysis of testing results that a certain flap clevis should have an unlimited life. The actions specified by the proposed AD are intended to remove the life limit for a specified flap clevis and to revise the maintenance manual by removing the life limit for that flap clevis. Also, the actions specified by the proposed AD are intended to prevent fatigue failure of the rotor shaft, the teeter pin assembly, and the flap clevis and subsequent loss of control of the helicopter.

DATES: Comments must be received by July 12, 2002.

ADDRESSES: Submit comments in triplicate to the Federal Aviation Administration (FAA), Office of the Regional Counsel, Southwest Region, Attention: Rules Docket No. 2000-SW-50-AD, 2601 Meacham Blvd., Room 663, Fort Worth, Texas 76137. You may also send comments electronically to the Rules Docket at the following address: 9-asw-adcomments@faa.gov. Comments may be inspected at the Office of the Regional Counsel between 9 a.m. and 3 p.m., Monday through Friday, except Federal holidays.

FOR FURTHER INFORMATION CONTACT: Richard Noll, Aviation Safety Engineer, Boston Aircraft Certification Office, 12 New England Executive Park, Burlington, MA 01803, telephone (781) 238-7160, fax (781) 238-7170.

SUPPLEMENTARY INFORMATION:

Comments Invited

Interested persons are invited to participate in the making of the proposed rule by submitting such written data, views, or arguments as they may desire. Communications should identify the Rules Docket number and be submitted in triplicate to the address specified above. All communications received on or before the closing date for comments, specified above, will be considered before taking action on the proposed rule. The proposals contained in this action may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their mailed comments submitted in response to this proposal must submit a self-addressed, stamped postcard on which the following statement is made: “Comments to Docket No. 2000-SW-50-AD.” The postcard will be date stamped and returned to the commenter.

Discussion

On June 12, 2001, the FAA issued AD 2001-13-03, Amendment 39-12283 (66 FR 34102, June 27, 2001), to require reducing the life limit of the rotor shaft and the teeter pin assembly and establishing a life limit for the flap clevis. That action was prompted by the discovery of cracks in parts returned to the manufacturer. That condition, if not corrected, could result in failure of a part and subsequent loss of control of the helicopter.

Since the issuance of that AD, further testing indicates that a specified time-in-service (TIS) life limit is unwarranted for flap clevis, part number (P/N) K911049-021.

This unsafe condition is likely to exist or develop on other helicopters of the same type design. Therefore, the FAA proposes revising AD 2001-13-03 to retain the existing life limits for each rotor shaft, teeter pin assembly, and flap clevis, except flap clevis, P/N K911049-021. Accordingly, this NPRM would also propose to revise the Limitations section of the maintenance manual to remove the life limit of 640 hours TIS for flap clevis, part number K911049-021.

The FAA estimates that 9 helicopters of U.S. registry would be affected by this proposed AD. No additional costs would be incurred to accomplish the proposed actions because it would relieve an AD requirement.

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-12283 (66 FR 34102, June 27, 2001), and by adding a new airworthiness directive (AD), to read as follows:

Kaman Aerospace Corporation: Docket No. 2000-SW-50-AD. Revises AD 2001-13-03, Amendment 39-12283, Docket No. 2000-SW-50-AD.

Applicability: Model K-1200 helicopters, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (c) of this AD. The request should include an assessment of the effect of the modification, alteration, or repair on the unsafe condition addressed by this AD; and if the unsafe condition has not been eliminated, the request should include specific proposed actions to address it.

Compliance: Required as indicated, unless accomplished previously.

To prevent failure of the rotor shaft, teeter pin assembly, or flap clevis due to fatigue cracks, and subsequent loss of control of the helicopter, accomplish the following:

(a) Before further flight, remove any rotor shaft, part number (P/N) K974112-001, -003, -005, -007, -009, or -101, that has 3,750 or more hours time-in-service (TIS) and replace it with an airworthy part. Remove any teeter pin assembly, P/N K910005-007 or -009, that has 550 or more hours TIS and replace it with an airworthy part. Remove any flap clevis, P/N K911049-011, -017, or -019, that has 640 or more hours TIS, and replace it with an airworthy part.

(b) This AD revises the Limitations section of the maintenance manual by removing the life limit of 640 hours TIS established for the flap clevis, P/N K911049-021. The life limit for each rotor shaft, P/N K974112-001, -003, -005, -007, -009, and -101 remains at 3,750 hours TIS; the life limit for each teeter pin assembly, P/N K910005-007 and -009, remains at 550 hours TIS; and the life limit for the flap clevis, P/N K911049-011, -107, and -109 remains at 640 hours TIS.

(c) An alternative method of compliance or adjustment of the compliance time that provides an acceptable level of safety may be used if approved by the Manager, Boston Aircraft Certification Office, FAA. Operators shall submit their requests through an FAA Principal Maintenance Inspector, who may concur or comment and then send it to the Manager, Boston Aircraft Certification Office.

Note 2: Information concerning the existence of approved alternative methods of compliance with this AD, if any, may be obtained from the Boston Aircraft Certification Office.

(d) Special flight permits will not be issued.

Issued in Fort Worth, Texas, on April 29, 2002.
David A. Downey,
Manager, Rotorcraft Directorate, Aircraft Certification Service.

[FR Doc. 02-11807 Filed 5-10-02; 8:45 am]

BILLING CODE 4910-13-P